DEPARTMENT OF JUSTICE

Notice of Lodging of Consent Decree Pursuant to the Comprehensive Environmental Response, Compensation and Liability Act Consistent With Departmental Policy, 28 CFR

50.7, notice is hereby given that a proposed Consent Decree in United States v. Robert Odabashian, et al. was lodged with the United States District Court for the Western District of Tennessee on May 18, 2000 (95-2361 G/Bre). On November 5, 1995, the United States filed a First Amended Complaint pursuant to Section 107 of the Comprehensive Environmental Response, Compensation, and Liability Act of 1980 (“CERCLA”), as amended, against five defendants. The First Amended Complaint alleges that the defendants are liable under Section 107 of CERCLA for costs incurred by the United States Environmental Protection Agency during a cleanup of the Pulvair Corporation Superfund Site in Millington, Tennessee. Subsequently, defendants filed various third-party complaints seeking contribution from various third-party defendants. The proposed Consent Decree settles the liability of Kincaid Enterprises, Inc., one of the defendants named in the November 5, 1995 Complaint. Under the Consent Decree, the Settlor agrees to reimburse the United States in the amount of $400,000.

The Department of Justice will receive, for a period of thirty (30) days from the date of this publication, comments relating to the proposed Consent Decree. Comments should be addressed to the Assistant Attorney General for the Environment and Natural Resources Division, U.S. Department of Justice, P.O. Box 7611, Washington, DC 20044; and refer to United States v. Robert Odabashian, et al., DOJ Ref. #90-11-3-1474.

The proposed settlement agreement may be examined at the Office of the United States Attorney, Suite 410, 200 Jefferson Avenue, Memphis, TN 38103, and at the office of the Environmental Protection Agency, Region 4, 61 Forsyth Street, S.W., Atlanta, GA 30303. A copy of the proposed Consent Decree may be obtained by mail from the Department of Justice Consent Decree Library, P.O. Box 7611, Washington, DC 20044. In requesting a copy please refer to the referenced case and enclose a check in the amount of $5.00 (25 cents per page reproduction costs), payable to the Consent Decree Library.

Joel M. Gross,
Chief, Environmental Enforcement Section, Environment and Natural Resources Division.

[FR Doc. 00-13906 Filed 6-2-00; 8:45 am]

BILLING CODE 4410-15-M